DEPARTMENT OF COMMERCE

International Trade Administration

[A-122-838]

Certain Softwood Lumber Products From Canada: Notice of Rescission of Antidumping Duty New Shipper Review

AGENCY: Import Administration, International Trade Administration, Department of Commerce.

SUMMARY: On July 8, 2004, the Department of Commerce (the Department) published in the Federal Register (69 FR 41229) a notice announcing the initiation of a new shipper review of the antidumping duty order on certain softwood lumber products from Canada, covering the period May 1, 2003, through April 30, 2004. The review covers Seed Timber Co. Ltd. (Seed Timber). We are now rescinding this review as a result of Seed Timber's withdrawal of its request for a new shipper review.

EFFECTIVE DATE: September 10, 2004.

FOR FURTHER INFORMATION CONTACT: Constance Handley or Saliha Loucif, at (202) 482-0631 or (202) 482-1779, respectively, AD/CVD Enforcement Office 1, Group I, Import Administration, International Trade Administration, U.S. Department of Commerce, 14th Street & Constitution Avenue, NW., Washington, DC 20230.

SUPPLEMENTARY INFORMATION:

Background

In accordance with 19 CFR 351.214(c) (April 2002), on May 28, 2004, Seed Timber requested a new shipper review of the antidumping duty order on certain softwood lumber products from Canada. On July 8, 2004, in accordance with section 751(a)(2)(B)(ii) of the Tariff Act of 1930, as amended (the Act), and 19 CFR 351.214(d)(1), we initiated a new shipper review of this order for the period May 1, 2003, through April 30, 2004 (69 FR 41229). Seed Timber withdrew its request for a new shipper review on August 18, 2004.

Rescission of New Shipper Review

The Department's regulations at 19 CFR 351.214(f)(1) provide that the Department will rescind a new shipper review if the party that requested the review withdraws its request for review within 60 days of the date of publication of the notice of initiation of the requested review. Seed Timber withdrew its request within the 60-day period. Accordingly, we are rescinding this review.

Notification

Bonding is no longer permitted to fulfill security requirements for shipments of certain softwood lumber products from Canada produced and exported by Seed Timber, entered, or withdrawn from warehouse, for consumption in the United States on or after the publication of this rescission notice in the Federal Register.

This notice also serves as the only reminder to parties subject to administrative protective order (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This notice is issued and published in accordance with sections 751(a)(2)(B)(iv) and 777(i) of the Act and 19 CFR 351.214(f)(3).

Dated: September 3, 2004.
Jeffrey A. May,
Deputy Assistant Secretary for Import Administration.

[FR Doc. E4-2144 Filed 9-9-04; 8:45 am]

BILLING CODE 3510-P